DEPARTMENT OF HEALTH AND HUMAN SERVICES

Health Resources and Services Administration

State Planning Grants

AGENCY: Health Resources and Services Administration (HRSA), Department of Health and Human Services (HHS).

ACTION: Notice of class deviation from competition requirement for one-time extension for the State Planning Grants for Improving Services for Children and Youth with Autism Spectrum Disorder (ASD) and Other Developmental Disabilities (DD) Grant Program.

SUMMARY: HRSA announces the award of a one-time extension in the amount of $54,244 each to four State Planning Grants for Improving Services for Children and Youth with Autism Spectrum Disorder (ASD) and Other Developmental Disabilities (DD) grants. The purpose of the program is to support states in the planning and development of activities that are designed to improve state systems of care for children and youth with ASD and related DDs and increase access to comprehensive coordinated health care. Grantees develop comprehensive, measurable state plans in collaboration with a diverse group of stakeholders that outline an approach to improve access to comprehensive, coordinated health care and related services for children and youth with ASD and other DDs. The purpose of this notice is to award a one-time, 12-month extension to ensure the completion of activities and an orderly phase out of HRSA support.

SUPPLEMENTARY INFORMATION: Intended Recipients of the Awards: University of Arkansas System, University of Massachusetts, New Hampshire Department of Health and Human Services, and the University of Texas Health Science Center at Houston.

Amount of Each Non-Competitive Award: $54,244.

Period of Low-Cost Extension Funding: 9/1/2015-8/31/2016.

CFDA Number: 93.110.

Authority: Public Health Service Act, § 399BB (42 U.S.C. 280i-1) and the Combating Autism Act of 2006 (Pub. L. 109-416), as amended by the Combating Autism Reauthorization Act of 2011 (Pub. L. 112-32) and the Autism Collaboration, Accountability, Research, Education, and Support (CARES) Act of 2014 (H.R. 4631; Pub. L. 113-157).

Justification: The State Planning Grants for Improving Services for Children and Youth with Autism Spectrum Disorder (ASD) and Other Developmental Disabilities (DDs) grant program (hereafter referred to as State Planning Grants) is authorized by the Public Health Service Act, § 399BB (42 U.S.C. 280i-1) and the Combating Autism Act of 2006 (Pub. L. 109-416), as amended by the Combating Autism Reauthorization Act of 2011 (Pub. L. 112-32) and the Autism Collaboration, Accountability, Research, Education, and Support (CARES) Act of 2014 (H.R. 4631; Pub. L. 113-157). The purpose of the program is to support states in the planning and development of activities that are designed to improve state systems of care for children and youth with ASD and related DDs and increase access to comprehensive coordinated health care. Grantees develop comprehensive, measurable state plans in collaboration with a diverse group of stakeholders that outline an approach to improve access to comprehensive, coordinated health care and related services for children and youth with ASD and other DDs.

State Planning Grants support state efforts to improve infrastructure that results in community and state systems that are integrated across service sectors and are collectively responsible for achieving appropriate individual, family, and community outcomes. To ensure that the capacity and infrastructure continue in these important areas, the Maternal and Child Health Bureau is requesting a one-time extension for completion of activities and an orderly phase-out of HRSA support. The additional funds and time will allow the grantees to complete their planning and strengthen their partnerships with the stakeholders who will be critical in implementing a comprehensive, coordinated system of health care for children and youth with ASD and DD. The current State Planning Grant awardees continue to achieve the original goals required by HRSA; however, the additional funding and time will allow awardees to complete their project activities. The impact of not granting this one-time extension would be to interrupt the activities of the State Planning Grant awardees and not allow them to complete their state planning.

FOR FURTHER INFORMATION CONTACT: CDR Deidre Washington-Jones, MPH, CHES, Division of Services for Children with Special Health Needs, Maternal and Child Health Bureau, Health Resources and Services Administration, 5600 Fishers Lane, Room 13-103, Rockville, Maryland 20857; dwashington-jones@hrsa.gov.

Grantee/organization name | Grant No. | State | Current project end date | Revised project end date | FY 2014 Authorized funding level | FY 2015 Estimated funding level
UNIVERSITY OF ARKANSAS SYSTEM | H6MMC26243 | AR | 8/31/2015 | 8/31/2016 | $75,000 | $54,244
UNIVERSITY OF MASSACHUSETTS | H6MMC26244 | MA | 8/31/2015 | 8/31/2016 | 75,000 | 54,244
HEALTH AND HUMAN SERVICES, NEW HAMPSHIRE DEPT OF | H6MMC26245 | NH | 8/31/2015 | 8/31/2016 | 75,000 | 54,244
UNIVERSITY OF TEXAS HEALTH SCIENCE CENTER AT HOUSTON | H6MMC26246 | TX | 5/31/2016 | 8/31/2016 | 75,000 | 54,244

Dated: September 4, 2015.
James Macrae,
Acting Administrator.

[FR Doc. 2015-23125 Filed 9-14-15; 8:45 am]

BILLING CODE 4165-15-P